DEPARTMENT OF LABOR

Office of the Assistant Secretary for Administration and Management; Agency Information Collection Activities; Extension Without Change; Comment Request; DOL Generic Solution for Solicitation for Grant Applications

ACTION: Notice.

SUMMARY: The Department of Labor (DOL), as part of continuing Departmental efforts to reduce paperwork and respondent burden in accordance with the Paperwork Reduction Act of 1995 (PRA) (44 U.S.C. 3501 et seq.), is soliciting comments concerning a proposed extension of the authorization to conduct the DOL Generic Solution for Solicitation for Grant Applications information collection.

DATES: Submit written comments on or before November 9, 2012.

ADDRESSES: Contact Michel Smyth by telephone at 202-693-4129 (this is not a toll-free number) or by email at DOL_PRA_PUBLIC@dol.gov to request additional information, including requesting a copy of this Information Collection Request (ICR).

Submit comments regarding this ICR, including suggestions for reducing the burden, by sending an email to DOL_PRA_PUBLIC@dol.gov. Comments may also be sent to Michel Smyth, Departmental Clearance Officer, U.S. Department of Labor, Office of the Chief Information Officer, 200 Constitution Avenue NW., Room N-1301, Washington, DC 20210.

Authority: 44 U.S.C. 3506(c)(2)(A).

SUPPLEMENTARY INFORMATION: Periodically the DOL solicits grant applications by issuing a Solicitation for Grant Applications. To ensure grants are awarded to the applicant(s) best suited to perform the functions of the grant, applicants are generally required to submit a two-part application. The first part of DOL grant applications consists of submitting Standard Form 424, Application for Federal Assistance. The second part of a grant application usually requires a technical proposal demonstrating the applicant's capabilities in accordance with a statement of work and/or selection criteria. This information collection is subject to the PRA.

A Federal agency generally cannot conduct or sponsor a collection of information, and the public is generally not required to respond to an information collection, unless it is approved by the Office of Management and Budget (OMB) under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1225-0086. The current approval is scheduled to expire on November 30, 2012; however, the DOL intends to seek continued approval for this collection of information for an additional three years.

The DOL, as part of its continuing effort to reduce paperwork and respondent burden, conducts a pre-clearance consultation program to provide the general public and Federal agencies an opportunity to comment on proposed, revised, and continuing information collections before submitting them to the OMB. This program helps to ensure requested data can be provided in the desired format, reporting burden (time and financial resources) is minimized, collection instruments are clearly understood, and the impact of collection requirements can be properly assessed. Interested parties are encouraged to provide comments to the individual listed in the ADDRESSES section above. Comments must be written to receive consideration, and they will be summarized and may be included in the request for OMB approval of the final ICR. The comments will also become a matter of public record.

The DOL is particularly interested in comments that:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond, including through the use of appropriate automated, electronic, mechanical, or other technological collection techniques or other forms of information technology, e.g., permitting electronic submission of responses.

Agency: Office of the Assistant Secretary for Administration and Management.

Type of Review: Extension without change of a currently approved collection.

Title of Collection: DOL Generic Solution for Solicitation for Grant Applications.

OMB Control Number: 1225-0086.

Affected Public: Private Sector—not for-profit institutions—and State, Local, and Tribal Governments.

Estimated Number of Respondents: 7,500.

Frequency: On occasion.

Total Estimated Annual Responses: 7,500.

Estimated Average Time per Response: 25 hours.

Estimated Total Annual Burden Hours: 187,500 hours.

Total Estimated Annual Cost Burden: $0.

Dated: September 5, 2012.
Michel Smyth,
Departmental Clearance Officer.

[FR Doc. 2012-22239 Filed 9-7-12; 8:45 am]

BILLING CODE 4510-23-P